DEPARTMENT OF COMMERCE

Foreign-Trade Zones Board

[Docket 14-2009]

Foreign-Trade Zone 15—Kansas City, Missouri Area; Application for Reorganization/Expansion

An application has been submitted to the Foreign-Trade Zones (FTZ) Board (the Board) by the Greater Kansas City Foreign-Trade Zone, Inc., grantee of FTZ 15, requesting authority to reorganize and expand the zone in the Kansas City, Missouri, area, within the Kansas City Customs and Border Protection port of entry. The application was submitted pursuant to the provisions of the Foreign-Trade Zones Act, as amended (19 U.S.C. 81a-81u), and the regulations of the Board (15 CFR part 400). It was formally filed on April 8, 2009.

FTZ 15 was approved by the Board on March 23, 1973 (Board Order 93, 38 FR 8622, 4/4/73) and expanded on December 20, 1973 (Board Order 97, 39 FR 26, 1/2/74), on October 25, 1974 (Board Order 102, 39 FR 39487, 11/7/74), on February 28, 1996 (Board Order 804, 61 FR 9676, 3/11/96), on May 31, 1996 (Board Order 824, 61 FR 29529, 6/11/96), on December 8, 1997 (Board Order 934, 62 FR 65654, 12/15/97), on October 19, 1998 (Board Order 1004, 63 FR 59761, 11/5/98), on January 8, 1999 (Board Order 1016, 64 FR 3064, 1/20/99), on June 17, 1999 (Board Order 1042, 64 FR 34188, 6/25/99), on April 15, 2002 (Board Order 1226, 67 FR 20087, 4/24/02), on April 20, 2005 (Board Order 1388, 70 FR 22630, 5/2/05), and on September 7, 2007 (Board Order 1524, 72 FR 53228, 9/18/07).

The general-purpose zone project currently consists of 14 sites (13,338 acres total): Site 1 (5.7 acres)—Midland International Corporation warehouse facility located at 1650 North Topping in Kansas City; Site 1A (3 acres)—1226 Topping Drive in Kansas City; Site 2 (64 acres)—warehouse complex located at 8300 NE Underground Drive and 3600 Great Midwest Drive in Kansas City; Site 3 (9,615 acres)—within the 10,000 acre Kansas City International Airport facility in Kansas City; Site 3A (1 acre)—located at 10201 North Everton in Kansas City; Site 3B (384 acres, 5 parcels) located in Kansas City as follows: Parcel 1 (68 acres)—the Air World Center Business Park located at the intersection of Interstate Highway 29 and 12th Street; Parcel 2 (66 acres)—the Congress Corporate Center Industrial Park located at the intersection of 112th Street and North Congress; Parcel 3 (161 acres)—an industrial park located at 11401 North Congress; Parcel 4 (37 acres)—7501 NW 106th Terrace; and, Parcel 5 (52 acres)—the KCI Logistics Center, located at the intersection of NW 104th Street and Interstate Highway 29; Site 4 (416 acres)—the Carefree Industrial Park located at 1600 N. Missouri Highway 291 in Sugar Creek/Independence; Site 5 (1,000 acres) the CARMAR Underground Business Park/CARMAR Industrial Park located at No. 1 Civil War Road in Carthage; Site 7 (1,567 acres)—the Richards-Gebaur Memorial Airport/Industrial Park complex located at 1540 Maxwell in Kansas City; Site 8 (26 acres, 2 parcels)—20 acres located at Ryan Road and Brunswick Road and 6 acres located at 411 Brunswick Road, both in Chillicothe; Site 9 (10 acres)—located at 3800 South 48th Terrace in St. Joseph; Site 10 (72 acres)—located at 8201 East 23rd Road in Kansas City; Site 11 (49 acres, 3 parcels)—located at 13700 South Highway 71 (18 acres), 5610 East 139th Street (9 acres), and, 13500 15th Street (22 acres), all in Grandview; Site 12 (125 acres)—the Botts warehouse located 14100 Botts Road in Grandview.

The applicant is now requesting that the Board grant permanent authority for Parcel 4 and Parcel 5 of Site 3B, which were granted temporary designation through an administrative action with authority expiring 12/31/09. As part of the zone reorganization, Parcel 5 of Site 3B (52 acres) will become part of existing Site 3, while Parcel 4 of Site 3B (37 acres) will become proposed Site 13. The applicant is also requesting that zone status be restored to the acreage that was temporarily transferred from Site 3B, Parcel 2 (89 acres) to create the temporary sites. Proposed Site 13 is currently being used for warehousing, storage and distribution activities, while the acreage being transferred to Site 3 is part of the KCI Intermodal Business Centre, which is currently undeveloped. No specific manufacturing requests are being made at this time. Such requests would be made to the Board on a case-by-case basis.

In accordance with the Board's regulations, Christopher Kemp of the FTZ staff is designated examiner to investigate the application and report to the Board.

Public comment is invited from interested parties. Submissions (original and 3 copies) shall be addressed to the Board's Executive Secretary at the address listed below. The closing period for their receipt is June 15, 2009. Rebuttal comments in response to material submitted during the foregoing period may be submitted during the subsequent 15-day period (to June 30, 2009).

A copy of the application and accompanying exhibits will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz. For further information, contact Christopher Kemp at christopher_kemp@ita.doc.gov or (202) 482-0862.

Dated: April 8, 2009.
Andrew McGilvray,
Executive Secretary.

[FR Doc. E9-8766 Filed 4-15-09; 8:45 am]

BILLING CODE 3510-DS-P